DEPARTMENT OF AGRICULTURE

Rural Housing Service

[Docket No. RHS-21-CF-0009]

The American Rescue Plan Act Emergency Rural Health Care Grant Program

AGENCY: Rural Housing Service, Department of Agriculture (USDA).

ACTION: Notice of Funds Availability (NOFA).

SUMMARY: The Rural Housing Service (RHS), a Rural Development agency of the United States Department of Agriculture (USDA), announces the availability of up to $500 million in grant funding, appropriated under the American Rescue Plan Act of 2021, for the establishment of the Emergency Rural Health Care (ERHC) Grant Program. As authorized under Section 1002 of the American Rescue Plan Act of 2021, funds will be made available and distributed between two tracks of funding to eligible applicants: Track One, Recovery grants to offer support for rural health care services in the form of immediate relief to address the economic conditions arising from the COVID-19 emergency; and Track Two, Impact grants to offer longer-term funding to advance ideas and solutions to support long-term sustainability of rural health.

DATES: Applications for the ERHC Grant Program must be submitted to the applicable USDA Rural Development Office (See ADDRESSES section for details). Track One, Recovery applications will be accepted on a continual basis, beginning on the publication date of this Notice, until funds are exhausted. The applicable USDA Rural Development State Office will conduct an initial review, rating, and selection of complete applications received by 4:00 p.m. local time on October 12, 2021. Subsequent application reviews, rankings, and selections will occur in additional rounds for all complete applications until all remaining funds are utilized. Track Two, Impact applications must be received by the applicable USDA Rural Development Office by 4:00 p.m. local time on October 12, 2021. Track Two, Impact applications received after October 12, 2021 will not be considered.

Comments related to the collection of information must be submitted by October 12, 2021. Please follow the directions provided in Section IX of this NOFA.

ADDRESSES: This funding opportunity will be made available for informational purposes on Grants.gov.

Application Submission: Track One, Recovery applications will be submitted to a processing office as designated by the USDA Rural Development State Office in the state where the applicant's project is located. Agency state office contact information is available at https://www.rd.usda.gov/about-rd/state-offices. Track Two, Impact applications will be submitted to a processing office as designated by the USDA Rural Development State Office in the state where the applicant is headquartered. For applicants with headquarters located in the District of Columbia, applications will be submitted to the USDA Rural Development National Office, ATTN: Jamie Davenport, 1400 Independence Ave., SW, STOP 0787, Washington, DC 20250. Both paper and electronic applications must be received by the Agency by the deadlines stated in the DATES section of this Notice. The use of a courier and package tracking for paper applications is strongly encouraged.

FOR FURTHER INFORMATION CONTACT: Jamie Davenport: USDA Rural Development, Community Facilities Program. Telephone: (202) 720-0002, email: Jamie.Davenport@usda.gov. Persons with disabilities that require alternative means for communication should contact the U.S. Department of Agriculture (USDA) Target Center at (202) 720-2600 (voice).

SUPPLEMENTARY INFORMATION:

Authority:

This solicitation is authorized pursuant to the American Rescue Plan Act of 2021 (Pub. L. 117-2), 7 CFR part 3570, subpart B; 7 U.S.C. 8103(f)), Farm Security and Rural Investment Act, 2002; 7 U.S.C. 1926(a)(13), and the Consolidated Farm and Rural Development Act; 7 U.S.C. 1926(a)(26).

Rural Development Funding Priorities

The Agency encourages applicants to consider projects that will advance the following key priorities:

○ Assisting rural communities recover economically from the impacts of the COVID-19 pandemic, particularly disadvantaged communities;

○ Ensuring all rural residents have equitable access to RD programs and benefits from RD funded projects; and

○ Reducing climate pollution and increasing resilience to the impacts of climate change through economic support to rural communities.

For further information, visit https://www.rd.usda.gov/priority-points.

Congressional Review Act

Pursuant to Subtitle E of the Small Business Regulatory Enforcement Fairness Act of 1996 (also known as the Congressional Review Act or CRA), 5 U.S.C. 801 et seq., the Office of Information and Regulatory Affairs in the Office of Management and Budget designated this action as a major rule as defined by 5 U.S.C. 804(2), (Pub. L. 104-121), because it is likely to result in an annual effect on the economy of $100,000,000 or more. Accordingly, there is a 60-day delay in the effective date of this action. Application rating, ranking, and selection will not begin until after October 12, 2021. Therefore, the 60-day delay required by the CRA is not expected to have a material impact upon the administration and/or implementation of the ERHC Grant Program.

Background

USDA's Rural Development Agencies, comprising the Rural Business-Cooperative Service (RB-CS), Rural Housing Service (RHS), and the Rural Utilities Service (RUS), are leading the way in helping rural America improve the quality of life and increase the economic opportunities for rural people. RHS offers a variety of programs to build or improve housing and essential community facilities in rural areas. The Agency also offers loans, grants, and loan guarantees for single- and multi-family housing, child-care centers, fire and police stations, hospitals, libraries, nursing homes, schools, first responder vehicles and equipment, housing for farm laborers and much more. The Agency also provides technical assistance loans and grants in partnership with non-profit organizations, Indian tribes, state and Federal government agencies, and local communities.

The American Rescue Plan Act of 2021 (ARPA), Public Law 117-2, was signed by the President on March 11, 2021. It provides the Rural Housing Service Community Facilities (CF) Program up to $500,000,000 in grant funding for eligible CF applicants and eligible CF facilities to help broaden access to COVID-19 vaccines and testing, health care services including telehealth services, food assistance through food banks and food distribution facilities, and collaborative, evidence-based support for the long-term sustainability of rural health care.

Nearly one in five Americans live in rural areas and depend on local hospitals for care. Data shows that between January 2013 and February 2020, 101 rural hospitals closed in 28 states. According to data from the U.S. Department of Health and Human Services (HHS) and a recent study by the U.S. Government Accountability Office (GAO), counties with a hospital closure experience an immediate and steady decline in availability of health care providers compared to counties that do not experience a closure. Rural residents in these counties must travel an additional median distance of 20 miles to access health care services after a closure. Furthermore, HHS data shows that Medicare fee-for-service beneficiaries are less healthy in areas with hospital closures compared to their counterparts in service areas without closures. In addition, HHS data shows that rural hospitals operated under negative margins before closure and hospitals that remain open are increasingly showing signs of financial distress.

The financial stress on rural hospitals and the negative impact on rural residents was exacerbated by the COVID-19 pandemic. In 2020 alone, 20 hospitals closed and as many as 453 more rural hospitals are considered highly vulnerable for future closure. It is estimated that rural hospitals lost an estimated 70 percent of their income in 2020 due to delayed and deferred care caused by the pandemic. Rural residents are generally older, less healthy, and more reliant on government payors than their urban counterparts.

In designing this ERHC program, USDA determined that the challenges facing rural health care are primarily two-fold: immediate financial needs stemming from COVID-19 related expenses and long-term access and availability of rural health care services that have been further hampered as a result of the COVID-19 pandemic. In response to these challenges, this ERHC Grant Program NOFA provides two tracks of funding: Track One for recovery grants to support immediate financial relief needs and Track Two for impact grants to advance ideas and solutions to support the long-term sustainability of rural health care.

Overview

Federal Agency: Rural Housing Service (RHS), (USDA).

Funding Opportunity Title: The American Rescue Plan Act Emergency Rural Health Care (ERHC) Grant Program.

Funding Opportunity Number: USDA-RHS-ERHC-2021.

Announcement Type: Notice of Funds Availability.

Assistance Listings (AL) Number: 10.766.

Due Date for Applications: Track One, Recovery applications will be accepted on a continual basis and will be evaluated as long as funding remains available. Complete applications received by 4:00 p.m. local time on October 12, 2021 will be evaluated and ranked according to the scoring criteria in this Notice. Applications subsequently received and/or deemed complete will be evaluated and ranked as long as funding remains available.

Applications for Track Two, Impact applications must be received by 4:00 p.m. local time on October 12, 2021. Applications received after 4:00 p.m. local time on October 12, 2021 will not be considered.

For further information, visit the Emergency Rural Health Care Grant Program web page at https://www.rd.usda.gov/erhc.

Items in Supplementary Information

I. Funding Opportunity Description

II. Federal Award Information

III. Definitions

IV. Eligibility Information

V. Application Submission Information

VI. Application Review Information

VII. Federal Awarding Administration Information

VIII. Federal Awarding Agency Contacts

IX. Other Information

I. Funding Opportunity Description

A. Background

This NOFA is being issued pursuant to the recently passed American Rescue Plan Act of 2021 and is considered to be Economically Significant and Major. Funds will be administered in accordance with this NOFA and will be distributed between two tracks of funding: Under Track One, Recovery grants are designed to provide emergency grant funding for eligible CF applicants to help rural hospitals and local communities broaden access to COVID-19 vaccines and testing, health care services including telehealth services, and food assistance through food banks and food distribution facilities in rural areas.

Track Two, Impact grants are designed to plan for, implement, and evaluate models to support the long-term sustainability of rural health care. Long-term sustainability is defined as improved health outcomes, improved access to quality health care, and creating and maintaining health care as a key economic driver of small communities. Details on eligible Community Facilities (CF) applicants and eligible CF facilities may be found in Section IV. Eligibility Information of this Notice.

Applicants may request assistance for costs for a performance period of up to 36 months. Track One, Recovery applicants may additionally request pre-award costs incurred on or after March 13, 2020. Applicants may not request assistance for expenses or losses that have been reimbursed from other Federal sources or that other Federal sources are obligated to reimburse.

Rural communities face unique challenges due to the COVID-19 pandemic that include financial and economic vulnerability. At the same time, rural communities have essential community infrastructure needs that are essential to promote vaccine administration and distribution, conduct COVID-19 testing, provide access to quality health care services, and support the needs of food banks and food distribution facilities. This program provides critical grant funding to support rural communities' health care needs in the face of COVID-19.

B. Program Description

This program is designed for essential community facilities located in rural areas, primarily serving rural areas, and serving populations with median household income that is lower than ninety percent of the State nonmetropolitan median household income. Within these parameters, the Agency is further encouraging investment in distressed communities. RD utilizes the Distressed Communities Index, developed by the Economic Innovation Group (EIG), which combines seven publicly available metrics to assess the economic well-being of communities. For more information on EIG's Distressed Communities Index, visit https://eig.org/dci. EIG's Distressed Community Map can be found at the following website: https://ruraldevelopment.maps.arcgis.com/apps/webappviewer/index.html?id=06a26a91d074426d944d22715a90311e. As part of its annual performance plan and strategic goals and objectives, the Agency tracks the percent of RD assistance that goes to distressed communities in its loan and grant programs and will do the same for this program.

C. Implementation of the American Rescue Act of 2021 Provisions

Track One, Recovery grant funds will be allocated to USDA Rural Development State Offices. The allocation of funds will be based on an adaptation of 7 CFR part 1940, subpart L, Methodology and Formulas for Allocation of Loan and Grant Program Funds. USDA Rural Development State Offices will have until June 30, 2022 to obligate funds allocated to their respective state. After June 30, 2022, unobligated funds may be pooled into the USDA Rural Development National Office Reserve to fund additional qualified applications based on the evaluation criteria specified in this Notice. The Agency intends to provide a minimum $350,000,000 to fund eligible facilities under Track One.

Track Two, Impact grant funds will be held within the USDA Rural Development National Office Reserve. The Agency intends to provide up to $125,000,000 to fund no more than 15 projects under Track Two. Any unobligated funds for Track Two, Impact grants will be made available for Track One, Recovery grants.

II. Federal Award Information

A. Assistance Listings (AL) Number: 10.766

Assistance Listings (AL) Title: American Rescue Plan Act Emergency Rural Health Care (ERHC) Grant Program.

B. Available Funds

The American Rescue Plan Act of 2021 provides $500,000,000 in budgetary authority for this program through September 30, 2023. The Agency may publish future notices in the Federal Register to align with the demand for these grants.

C. Funding Limitations

The Agency will review and evaluate applications received as set forth in this NOFA. The Agency anticipates that demand for grant funding may exceed the supply of funds and will assign points to each application in accordance with the scoring and selection criteria for the applicable funding track outlined in this Notice.

III. Definitions

The terms and conditions provided in this NOFA are applicable to and for purposes of this NOFA only. Unless otherwise provided in the award documents, all financial terms not defined herein shall have the meaning as defined by Generally Accepted Accounting Principles (GAAP).

Agency means the Rural Housing Service (RHS), an agency of the U.S. Department of Agriculture.

Consortium means institutions of health care, higher education, academic health and research institutes, federally-recognized tribes, or economic development entities (inclusive of tribal economic development entities), or combination thereof, located in the region identified to be served that have experience in addressing these issues in the region.

Eligible Project Costs means only those costs incurred during the grant period and eligible pre-award period and that are directly related to the use and purposes of the American Rescue Plan Act's Emergency Rural Health Care Grant Program.

GAAP means accounting principles generally accepted in the United States of America.

Poverty line means the level of income for a family of four as defined by section 673(2) of the Community Services Block Grant Act (42 U.S.C. 9902(2)).

Rural and rural area mean a city, town, or unincorporated area with a population of not more than 20,000 inhabitants in accordance with 7 U.S.C. 1991(a)(13). Population may be adjusted by exclusion of individuals incarcerated on a long-term or regional basis and the exclusion of the first 1,500 individuals who reside in housing located on a military base. The boundaries for unincorporated areas will be based on Census Designated Place(s). Population data from the most recent decennial census of the United States will be used. For projects located on tribal trust land, the population of the tribal trust land, based on the most recent decennial census, will be used to determine the rural area regardless of whether the tribal trust land is located within the boundaries of a city or town.

Rural Development (RD) means a mission area within USDA which includes Rural Housing Service, Rural Utilities Service, and Rural Business-Cooperative Service.

State nonmetropolitan median household income (MHI) means the median household income of the State's nonmetropolitan counties and portions of metropolitan counties outside of cities, towns, or places of 50,000 or more population.

IV. Eligibility Information

A. Applicant Eligibility

(1) An eligible applicant under this program must be one of the types of entities outlined in 7 CFR 3570.61(a):

(a) Public body, such as a municipality, county, district, authority, or other political subdivision of a State. State public bodies are not eligible for assistance under this program.

(b) Nonprofit corporation or association. Applicants, other than nonprofit utility applicants, must have significant ties with the local rural community. Such ties are necessary to ensure to the greatest extent possible that a facility under private control will carry out a public purpose and continue to primarily serve rural areas. Nonprofit Track Two, Impact applicants must demonstrate a consortium of partners that demonstrate significant ties with the local rural community(ies) as referenced in paragraph (2) of this section.

(c) Federally recognized Indian Tribe, including a political subdivision of a Tribe, in a rural area.

(2) In addition to meeting the eligibility requirements of Section IV(A)(1) above, Track Two, Impact grant applicants must establish a network or consortium of entities for the purposes of this grant. The network or consortium shall:

(a) Be comprised of at least three or more health care provider organizations, economic development entities, federally-recognized tribes, and/or institutions of higher education, academic health, and research institutes (including the applicant organization).

(b) Be comprised of rural and/or urban nonprofit entities, as long as at least 66% (two-thirds) of network members are located in a rural area and primarily serve a rural area as defined by this Notice; and

(c) Identify one lead entity to serve as the primary applicant and recipient of the Track Two, Impact grant funds and accountable for monitoring and reporting on the project performance and financial management of the grant. The lead entity or applicant must be an eligible entity described above in Section IV (A) (1), although significant ties to the local rural community may be satisfied as long as at least 66% (two-thirds) of consortium members are located in a rural area and primarily serve a rural area. The lead entity must also be legally organized as an incorporated organization or other legal entity with legal authority to contract with the Federal Government.

B. Project Location Eligibility

To be eligible for grant funds under this Notice, the eligible facility or project to be financed must be located in a rural area as defined in section 343(a)(13)(C) of the Consolidated Farm and Rural Development Act (7 U.S.C. 1991(a)(13)) and must primarily serve rural residents. The terms “rural” and “rural area” mean any area other than a city, town, or unincorporated area that has a population of greater than 20,000 inhabitants. Population may be adjusted by exclusion of individuals incarcerated on a long-term or regional basis and the exclusion of the first 1,500 individuals who reside in housing located on a military base. The boundaries for unincorporated areas in determining populations will be based on the Census Designated Places(s) (CDP). Data from the most recent decennial census of the United States will be used in determining population. For projects located on tribal trust land, the population of the tribal trust land, based on the most recent decennial census, will be used to determine the rural area regardless of whether the tribal trust land is located within the boundaries of a city or town.

Non-public body applicants are not required to be headquartered in a rural area. However, applicants must demonstrate how the facility to be financed with these grant funds is located in and will primarily serve rural areas. For Track Two, Impact grants, the lead applicant must demonstrate how the project is for the benefit of facilities located in rural areas and which primarily serve rural areas.

When considering whether a facility primarily serves rural residents, the Agency will consider the applicant or facility's normal service territory, excluding any temporary expansion of service area resulting from the COVID-19 pandemic.

C. Eligible Grant Amounts

An applicant is limited in the amount of grant funds that can be requested to assist a facility, depending on the population to be served and the median household income of that population. Facilities and projects must demonstrate other sources of funds to fund the remaining portion of project costs. In these cases, grant assistance will be provided on a graduated scale with smaller communities with the lowest median household income being eligible for a higher proportion of grant funds. Grant funds will be limited to:

(1) The percentages of eligible project costs as outlined below:

(a) Up to 75 percent when the proposed project is located in a rural community having a population of 5,000 or less and the median household income of the population to be served by the proposed facility is below the poverty line or 60 percent of the State nonmetropolitan median household income, whichever is greater.

(b) Up to 55 percent when the proposed project is located in a rural community having a population of 12,000 or less and the median household income of the population to be served by the proposed facility is below the poverty line or 70 percent of the State nonmetropolitan median household income, whichever is greater.

(c) Up to 35 percent when the proposed project is located in a rural community having a population of 20,000 or less and the median household income of the population to be served by the proposed facility is below the poverty line or 80 percent of the State nonmetropolitan median household income, whichever is greater.

(d) Up to 15 percent when the proposed project is located in a rural community having a population of 20,000 or less and the median household income of the population to be served by the proposed facility is below the poverty line or 90 percent of the state nonmetropolitan median household income, whichever is greater.

(e) In-kind contributions are not an acceptable source of cost-sharing funds. Applicants must utilize cash contributions to fund the remaining project costs and these funds must be expended for an eligible purpose outlined in this Notice.

(i) If requesting Track One, Recovery funds for lost revenue or staffing expenses as defined in paragraphs D.(1)(c) and D.(1)(f) of this section, respectively, applicants may utilize the applicable percentage of lost revenue or staffing expenses to satisfy the cost-sharing requirement. For example, an applicant that experienced $100,000 in lost revenues associated with a facility located in a rural community of less than 5,000 population and a median household income of less than 60 percent of the state nonmetropolitan median household income is eligible for a maximum project cost of 75 percent. In this example, the applicant can request $75,000 for grant funding associated with lost revenues and the remaining $25,000 in lost revenues serves as the balance of the total project cost.

(ii) Applicants may not use grant funds received under other Rural Development (RD) programs to satisfy cost-sharing or matching requirements. Federal and state resources may be acceptable sources to the extent it is allowable under the Federal or state program(s).

(iii) If awarded grant funds under this program, grant funds may not be utilized as matching funds for other Federal programs.

(2) Under Track One, Recovery, the maximum grant assistance allowed is $1,000,000. Under Track Two, Impact, the maximum grant assistance allowed is $10,000,000.

(3) Under Track One, Recovery, the minimum grant assistance allowed is $25,000. Under Track Two, Impact, the minimum grant assistance is $5,000,000.

(4) Applicants may request and receive assistance under both Track One and Track Two awards. Applicants may submit only one application for Track Two assistance. Affiliated entities may only participate in a single Track Two application.

(5) Applicants may request assistance for more than one project location. An applicant entity with wholly owned affiliated entities or subsidiaries may apply on behalf of one or more affiliated entities. An Affiliate is an entity controlling or having the power to control another entity, or a third party or parties that control or have the power to control both entities.

(6) If it is determined that an applicant is affiliated with another entity that has also applied, then the maximum grant award applies to all affiliated entities as if they applied as one applicant.

D. Eligible Use of Grant Funds

Grant funds must be used to support health care and nutritional assistance needs in correlation with the COVID-19 pandemic and as defined below. Funds may be requested for one or more purposes outlined below:

(1) Track One, Recovery funds must be used to support immediate health care needs stemming from the COVID-19 pandemic, to support preparedness for a future pandemic event, and/or to increase access to quality health care services to improve community health outcomes. To be eligible for this program, a project must support the health care needs, including access to nutrition assistance through food banks and food distribution facilities, for a rural community(ies). Funds requested from the categories below may be requested for expenses incurred during the grant period and/or the eligible pre-award period dating back to March 13, 2020:

(a) Increase capacity for vaccine distribution, including cold storage, vehicle, transportation, and other equipment expenses.

(b) Provide medical supplies and equipment to increase medical surge capacity, including personal protective equipment and laboratory equipment.

(c) Reimburse for health care-related revenue lost during the COVID-19 pandemic, including revenue losses incurred prior to the awarding of the grant through March 13, 2020. Requests for this category must include a certification from a certified public accountant (CPA) that the calculation of health care-related lost revenue requested is accurate and in alignment with previous years' revenue. When calculating lost revenue, CPAs may use budgeted revenues if the budget(s) and associated documents covering calendar year 2020 were established and approved on or before March 13, 2020. To be considered an approved budget, the budget must have been ratified, certified, or adopted by the applicant's financial executive or executive officer as of that date, and the CPA will be required to attest that the budget was established and approved on or before March 13, 2020. The CPA certification must also definitively state that these lost revenues have not been reimbursed from other Federal or state resources.

(d) Increase telehealth capabilities, including the purchase of and training needed for provider and end-user telehealth equipment, telehealth software, telehealth electronic security upgrades, electronic health records, data sharing capacity, video and teleconference services, and other underlying health care information systems.

(e) Construct or renovate temporary or permanent structures to provide health care services, such as vaccine administration, testing, and facility modifications. Examples of facilities offering health care services include health care clinics, hospitals, medical offices, outpatient facilities, mobile health clinics, mental/behavioral health, and addiction treatment centers, assisted and skilled living facilities, rehabilitation facilities, urgent care, telehealth facilities, and wellness centers. Any construction work completed with grant funds under this award shall meet the Davis-Bacon Act conditions set forth in section 9003(f) of the Farm Security and Rural Investment Act of 2002 (7 U.S.C. 8103(f)).

(f) Support staffing needs for vaccine administration and/or testing. Requests for this category must include a certification from a certified public accountant (CPA) that these staffing expenses have not been reimbursed from other Federal or state resources.

(g) Support facility, equipment, and operating expenses associated with food banks and food distribution facilities, including transportation, vehicles, food storage, and other equipment. Operating expenses are limited to the grant award period and pre-award cost period.

(h) To pay professional service fees and charges, but only when such expenses are a necessary part of a facility or project allowable under this Notice, are a secondary part of the grant amount requested, and when the Agency agrees that the amounts are reasonable and customary for the type of facility and—

(i) The professional service provider is selected through a qualifications-based selection process; or

(ii) The professional service provider is the project architect, project engineer, environmental professional, environmental consultant, or legal counsel, in which case a competitive qualifications-based procurement process is not required.

(i) To pay for pre-award costs incurred between March 13, 2020 and the proposed project start date for any eligible category in paragraph D.(1)(a) through (h) of this section. Applicants should note that any pre-award activities related to construction or renovation costs must still adhere to requirements specified in this Notice, including Davis-Bacon Act requirements and all Agency environmental requirements as specified in 7 CFR part 1970.

(2) Track Two, Impact funds must be used to support the long-term sustainability of rural health care. Long-term sustainability is defined as improved health outcomes, improved access to quality health care, and creating/maintaining sustainable economic development for small communities. Often, health care is the key economic driver for small rural communities and the closures of these facilities creates negative ripple effects throughout the regional economy. Projects funded under Track Two, Impact funds must define how the proposed project will contribute to improving rural health care access, rural health outcomes, and/or the economic viability of rural health care. Track Two, Impact applicants may request and use grant funding for one or more of the following activities:

(a) Establish or scale a regional partnership or consortium of community leaders and health care partners to plan, implement, and evaluate a model(s) to support solving regional health care problems and the long-term sustainability of rural health care. Health care networks can be an effective strategy to help small rural health care providers align resources, achieve economies of scale and efficiencies, share decision-making authority, collaboratively address community challenges, and create impactful, innovative solutions as a group rather than single providers.

(b) Establish or scale an evidence-based model and disseminate lessons learned for possible replication in other small communities and regions.

(c) Identify a health-related problem within the applicant's region, develop and implement a method and solution to overcome the problem and conduct a program evaluation to examine health related outcomes, long-term sustainability, and replicability. Implementation may include construction or other related expenses that adhere to requirements specified in this Notice.

The Agency encourages, but does not require, that applicants consider the following high need topical areas: development of integrated health care models, reducing facility bypass whether through telemedicine or business plan adjustments, telehealth, electronic health data sharing, workforce development, transportation, paramedicine, obstetrics, behavioral health, farmworker health care, cooperative home care, and supporting health care as a small community, anchor institution.

(d) Establish a methodology to calculate summary impact measures or an estimated return on investment for the grant funds requested, including job creation/retention numbers, and improving quality of life.

(e) Cover the cost of technical assistance to assist with one or more aspects of project implementation, project evaluation, data sharing, and/or reporting requirements.

(f) Cover indirect costs in an amount up to a federally negotiated indirect cost rate. A copy of the current rate agreement must be provided with the application. Applicants without a negotiated indirect cost rate, except for those non-Federal entities described in Appendix VII to Part 200—States and Local Government and Indian Tribe Indirect Cost Proposals, paragraph (D)(1), may use the de minimis rate of 10 percent of modified total direct costs. Lead applicants may not request indirect costs on behalf of any other consortium member.

(g) Make sub-awards in the form of a grant, cooperative agreement, or contract, as appropriate, to other members of the consortium or other service providers such as technical assistance providers. If a grant or cooperative agreement is awarded, the organization receiving the subaward is a subrecipient (see 2 CFR 200.1), and the recipient is responsible for complying with all applicable requirements of 2 CFR part 200, including provisions for making and monitoring an award. If a contract is awarded, the organization receiving the subaward is a contractor, and the recipient is responsible for following its written procurement procedures and complying with the Federal Acquisition Regulation. Both subrecipients and contractors are required to comply with all applicable laws and regulations, including performance and financial reporting, as described in their award document.

(h) To pay professional service fees and charges associated with the grant

request if the Agency agrees that the amounts are reasonable and customary for the type of facility and

(i) the professional service provider is selected through a qualifications-based selection process; or

(ii) the professional service provider is the project architect, project engineer, appraiser, environmental professional, environmental consultant, or legal counsel, in which case a competitive qualifications-based procurement process is not required.

(3) Grant funds must not be used to reimburse for the following purposes:

(a) Expenses or losses that have been reimbursed from any other sources or that other sources are obligated to reimburse.

(b) Expenses related to staffing needs may not exceed an annual salary of $100,000, as prorated over the applicable time period. This limitation is placed on cash compensation and does not include other health care or retirement plan compensation.

(c) Construction, renovation, purchase, or acquisition costs for facilities located in nonrural areas.

(d) Purchase or acquisition costs for facilities or property.

(e) Pay for existing indebtedness unrelated to the COVID-19 pandemic.

Refinance may be eligible for Track One, Recovery applicants for short-term debt incurred for an eligible purpose outlined in paragraph D. (1) above.

(f) With exception for eligible pre-award costs for Track One, Recovery

applicants, paying obligations incurred before the beginning date or after the ending date of the grant agreement; and

(g) Any purpose prohibited in 2 CFR part 200 or 2 CFR part 400.

V. Application Submission Information

A. Request Application Package

Entities wishing to apply for assistance may download the application documents and requirements outlined in this NOFA from the ERHC Grant Program web page: https://www.rd.usda.gov/erhc.

Track One, Recovery applicants must submit application packages to the USDA Rural Development office in their state. Applications will be processed by the USDA Rural Development State Office in the state where the applicant's project is located. For project activities located in more than one state, the applicant's headquarters location will determine the applicable USDA Rural Development State Office. Agency state office contact information is available at https://www.rd.usda.gov/about-rd/state-offices.

Track Two, Impact applicants must submit application packages to the USDA Rural Development office in the state in which the applicant organization is headquartered. If a Track Two applicant is headquartered in the District of Columbia, the applicant must submit its application package to the USDA Rural Development National Office and the application will be processed by the USDA Rural Development Maryland/Delaware State Office.

B. Content and Form of Application Submission

For Track One, Recovery applicants, the applicable USDA Rural Development State Office will conduct an initial review, rating, and selection of complete applications received by the date established in this Notice, according to the selection criteria in this Notice. Subsequent application reviews, rankings, and selections will occur for all complete applications until funding has been fully utilized. Complete applications must contain all parts necessary for the Agency to determine applicant and project eligibility, ensure environmental and architectural requirements are met, calculate a priority score, and rank the application in order to be considered. Track One, Recovery, applications deemed incomplete as of the date established in this Notice will compete for any remaining funding once the applicant submits a complete application. For as long as funding remains available, the applicable USDA Rural Development State Office will work with Track One, Recovery applicants to reach a complete application status.

For Track Two, Impact applicants, the applicable USDA Rural Development State Office will conduct initial eligibility reviews. The USDA Rural Development National Office will coordinate application reviews, rankings, and selections based on the information received by the Agency as of the deadline established in this Notice.

The application for Track One and Track Two funding must include the following:

(a) A summary page, double-spaced between items, listing the following (this information should not be presented in narrative form):

(1) Track of funding requested: Track One, Recovery or Track Two, Impact;

(2) Applicant's name;

(3) Amount of grant request, and

(4) Project description, no more than three sentences summarizing applicant entity, location of assistance, and purpose and use of the grant funds.

(b) A detailed Table of Contents containing page numbers for each component of the application.

(c) One executed complete application. This includes the SF-424 “Application for Federal Assistance,” and SF-424A “Budget Information—Non-Construction Programs” or SF-424C “Budget Information—Construction Programs.”

(d) Organizational documents that demonstrate the applicant is an eligible entity as described in Section IV. Eligibility Information. Nonprofits must provide articles of organization, incorporation, or association; by-laws; evidence of good standing; and evidence of ties to the local rural community. Ties to the local rural community may be demonstrated through: (1) Close association with, or controlled by a local unit of government; (2) Broad-based ownership and control by members of the community, as demonstrated through a listing and description of board members; and/or (3) Substantial public funding as demonstrated through pledged taxes, local government sources, or community-wide fundraising campaign.

(e) Evidence of eligibility. Applicants must submit sufficient documentation to demonstrate how the health care facility(ies) or project to be funded through this grant primarily serves rural areas, is located in a rural area, and serves a population with a median household income below the poverty line or applicable percentage defined in this Notice. This submission must describe the proposed facility or project and its service area, including:

(1) Location of facility, including population demographics of that location.

(2) Description of area and number and demographics (if known) of populations to be served, sufficiently detailed to verify Project Location Eligibility as outlined in Section IV. Eligibility Information of this Notice; and

(3) Evidence that the facility or project will primarily serve rural residents.

(f) A written budget narrative providing a detailed project budget, which also includes the following information:

(1) The amount of funds requested from each Eligible Use of Grant category, with a description of how the figure was calculated.

(2) A breakdown of project cost demonstrating the percentage of total project costs that this grant assistance will cover. This grant will cover a portion of total project costs as outlined in this Notice, and dependent on population and median household income.

(3) The time period for which this assistance is requested. All awards are limited to up to a 36-month grant period based upon the complexity of the project. In limited circumstances and only with prior Agency approval, the Agency may grant a no cost extension to the grant period. Under no circumstance shall the grant period extend beyond five full fiscal years past the award date.

For planning purposes, applicants should assume that the proposed grant period will begin no earlier than November 1, 2021 and should end no later than 36 months following that date. Eligible pre-award costs may be requested for costs incurred between March 13, 2020, and the project start date. If you receive an award, your grant period will be revised to begin on the actual date of award—the date the grant agreement is executed by the Agency—and your grant period end date will be adjusted accordingly.

(g) Environmental information necessary to support the Agency's environmental finding. Required information can be found in 7 CFR part 1970.

(h) For projects involving construction, a preliminary architectural feasibility report or engineering documentation, completed in accordance with Agency guidelines in RD Instruction 1942-A, Guide 6.

(i) Description and certification of applicant's cost share sources. For Track One, Recovery applicants seeking funds for lost health care-related revenue or staffing associated with COVID-19 vaccines and/or testing, the applicant's required cost share can be the applicable percentage of lost health care revenue and actual staffing expenses.

(j) Three years of the most recent audits or financial statements, including a current balance sheet and income and expense statement. If audits are not available, applicants may provide this information on Forms RD 442-7, “Operating Budget,” including projected cash flow; RD 442-2, “Statement of Budget, Income and Equity,” and RD 442-3 “Balance Sheet.”

(k) Intergovernmental Review comments, if applicable, from the local planning district commission.

(l) Certification of Non-Lobbying Activities.

(m) Standard Form LLL, “Disclosure of Lobbying Activities,” if applicable.

(n) Certification regarding any known relationship or association with an Agency employee in accordance with 7 CFR part 1900, subpart D.

(o) For applicants requesting funds under Track One, Recovery, a written narrative that includes:

(1) Description of how the assistance requested will broaden access to COVID-19 vaccines, COVID-19 testing, health care services and/or food bank or food distribution assistance in rural communities.

(2) If requesting funds for lost health care revenue or for staffing needs, a CPA issued certification stating that:

(a) No funds requested have been reimbursed from other Federal or state sources.

(b) No funds requested are obligated to be reimbursed from other Federal or state sources; and

(c) Funds requested are reasonable, appropriate, and align with actual or anticipated costs and/or lost revenues during the grant period.

(q) For applicants requesting funds under Track Two, Impact, provide a written narrative that addresses the following:

(1) Organizational Capacity and Strength of Consortium

(a) Evidence of an agreement formalizing a consortium for purposes of this grant funding. The agreement must address the negotiated arrangements for administering the grant funding to meet an applicant's project goals and the roles and responsibilities of each consortium member to comply with the administrative, financial, and reporting requirements of the grant and all other applicable Federal regulations and policies. This agreement must be signed by an authorized representative of the lead entity applicant and an authorized representative of each partnering consortium entity.

(b) Describe the actual composition of the consortium members and how each member is appropriate and needed to successfully accomplish project activities.

(c) Describe the abilities and contributions of the lead applicant organization and other consortium members. Provide a brief overview such as each organization's current mission, scope of current activities, demonstrated experience serving rural populations, key personnel to manage the award project, and access to financial practices and systems to ensure that Federal funds can be properly accounted for and managed.

(d) Evidence and description of how the consortium will maintain ties to the local rural community(ies). If the lead applicant is located in an urban area, describe the geographical relationship to the proposed rural service population, and plans to ensure that rural populations are served. Urban applicants must describe how they will ensure a high degree of local rural control in the project. At least 66% (two-thirds) of consortium members must be located in a rural area and primarily serve a rural area as defined by this Notice.

(e) Describe how the consortium will impact rural community(ies) and providers, and how the network will strengthen its relationship with the community and region it serves.

(f) Identify the project director for the award (or strategy for hiring), along with key activities and approximate percentage of time to be devoted to this project.

(2) Workplan and Proposed Budget

(a) Provide a project work plan that clearly illustrates the consortium's goals, strategies, activities, and measurable outcomes proposed during the entire period of performance. The work plan must identify the individual or organization responsible for carrying out each activity, include a timeline for the period of performance, and illustrate its relation to the COVID-19 pandemic.

(b) Provide a complete, consistent, and detailed budget presentation for up to a three-year period of performance through the submission of the SF-424A budget form and a Budget Narrative that justifies the appropriateness of the requested funds. The budget should be reasonable in relation to the objectives, the complexity of the activities, and the anticipated results. The budget narrative should logically and clearly document how and why each line item request (such as personnel, travel, equipment, contractual service, etc.) supports the goals and activities of the proposed award-funded activities.

(3) Evaluation, Impact, and Replicability

(a) Describe how the proposed progress toward meeting program goals contributes to the long-term sustainability of rural health care by improving rural health care access, improving rural health outcomes, and sustaining health care as an economic driver for the rural community or region.

(b) Describe how progress toward meeting program goals and determination of a return on investment will be tracked, measured, and evaluated. How will this assessment contribute to the consortium's quality improvement efforts and sustainability beyond the period of Federal funding?

(c) Explain a process for evaluating how the consortium's resources will be leveraged and utilized to increase access to health care services, improve rural health outcomes, and/or support health care as a key economic driver for small communities. Include a discussion regarding the consortium's plan for any necessary data collection efforts amongst members of the consortium, as well as any plans to solicit or provide technical assistance to support these efforts.

(d) Identify factors and strategies that will lead to project viability, sustainability of the consortium's activities after Federal funding ends, and establishment of an evidence-based model for dissemination of lessons learned for future replication.

C. Dun and Bradstreet Data Universal Numbering System (DUNS) for Award Management (SAM)

Grant applicants must obtain a Dun and Bradstreet Data Universal Numbering System (DUNS) number and register in the System for Award Management (SAM) prior to submitting an application pursuant to 2 CFR 25.200(b). In addition, an entity applicant must maintain registration in SAM at all times during which it has an active Federal award or an application or plan under consideration by the Agency. The applicant must ensure that the information in the database is current, accurate, and complete. Applicants must ensure they complete the Financial Assistance General Certifications and Representations in SAM. Similarly, all recipients of Federal financial assistance are required to report information about first-tier subawards and executive compensation in accordance to 2 CFR part 170. So long as an entity applicant does not have an exception under 2 CFR 170.110(b), the applicant must have the necessary processes and systems in place to comply with the reporting requirements should the applicant receive funding. See 2 CFR 170.200(b).

An applicant, unless excepted under 2 CFR 25.110(b), (c), or (d), is required to:

(a) Be registered in SAM before submitting its application;

(b) Provide a valid DUNS number in its application; and

(c) Continue to maintain an active SAM registration with current information at all times during which it has an active Federal award or an application or plan under consideration by a Federal awarding agency.

The Federal awarding agency may not make a federal award to an applicant until the applicant has complied with all applicable DUNS and SAM requirements and, if an applicant has not fully complied with the requirements by the time the Federal awarding agency is ready to make a Federal award, the Federal awarding agency may determine that the applicant is not qualified to receive a Federal award and use that determination as a basis for making a Federal award to another applicant.

As required by the Office of Management and Budget (OMB), all grant applications must provide a DUNS number when applying for Federal grants, on or after October 1, 2003. Organizations can receive a DUNS number at no cost by calling the dedicated toll-free number at 1-866-705-5711 or via internet at http://fedgov.dnb.com/webform. Additional information concerning this requirement can be obtained on the Grants.gov website at http://www.grants.gov. Similarly, applicants may register for SAM at https://www.sam.gov or by calling 1-866-606-8220.

The applicant must provide documentation that they are registered in SAM and their DUNS number. If the applicant does not provide documentation that they are registered in SAM and their DUNS number, the application will not be considered for funding.

You no longer must complete the following forms for acceptance of a federal award. This information is now collected through your registration or annual recertification in SAM.gov in the Financial Assistance General Certifications and Representations section:

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

D. Instructions and Resources

Instructions and additional resources for compiling and submitting an application are available on the Emergency Rural Health Care Grant Program web page at: https://www.rd.usda.gov/erhc.

E. Submission Dates and Times

The deadline date for applications to be considered for funding is specified in the DATES section at the beginning of this notice.

VI. Application Review Information

Applications will first be reviewed to determine if they meet the eligibility requirements in this Notice. If an application is deemed ineligible, the application will not be processed, evaluated, or scored. The Agency will notify ineligible applicants in writing regarding the reason(s) for ineligibility.

Applications deemed eligible will be evaluated based on the criteria below. Complete applications received by the deadline specified in this Notice will be scored and ranked to determine which applications are funded. Eligible and complete Track One, Recovery applications received after the deadline specified in this Notice will be reviewed and processed according to the criteria below for as long as funding remains available.

The Agency will review each grant application to determine eligibility. The applicant may be asked to provide additional information or documentation to assist the Agency with this determination.

A. Evaluation Criteria

Applications will be evaluated based only on the information provided in the application. References to websites or publications will not be reviewed, so full documentation and support of application criteria is encouraged. Scoring and ranking of applications will be a function of the criteria below.

(1) Track 1, Recovery applicants will receive a score based on the criteria below (maximum 100 points):

a. Distressed Communities/Communities below the poverty line threshold priority. 15 points will be given for facilities located in distressed communities according to the EIG index or communities below the poverty line. For applications supporting two or more facility locations, these priority points will only be given if 50 percent or more of the requested award funds will support distressed communities or those communities below the poverty line. EIG's Distressed Community Map can be found here: https://ruraldevelopment.maps.arcgis.com/apps/webappviewer/index.html?id=06a26a91d074426d944d22715a90311e. Maximum 15 points will be given.

b. Income priority. If the median household income of the facility's service area is below the higher of the poverty line or—

i. 60 percent of the State nonmetropolitan median household income: 20 points.

ii. 70 percent of the State nonmetropolitan median household income: 15 points.

iii. 80 percent of the State nonmetropolitan median household income: 10 points; or

iv. 90 percent of the State nonmetropolitan median household income: 5 points.

c. Population priority. If the facility is located in a rural community having a population, according to the most recent decennial census, of—

i. 5,000 or less: 15 points.

ii. 5,001 to 10,000: 10 points; or

iii. 10,001 to 15,000: 5 points.

d. COVID-19 vaccine administration or testing priority. 20 points will be given to applications that directly support activities to administer COVID-19 vaccines or conduct COVID-19 testing. Maximum 20 points will be given.

e. COVID-19 Impacts priority. 20 points will be given to applications with projects located in one of the top 10 percent of counties or county equivalents based upon county risk score in the United States. The risk score is calculated based on COVID-19 confirmed cases (per 10,000 population); Distressed Communities Index (DCI); Job Loss Projections (Bureau of Labor Statistics data) and the Center for Disease Control's (CDC) Social Vulnerability Index (SVI). Counties that qualify for the COVID-19 impact priority points are listed on the RD web page at https://www.rd.usda.gov/priority-points. For applications supporting two or more facility locations, these priority points will only be given if 50 percent or more of the requested award funds will support these high COVID-19 impact counties. Maximum 20 points will be given.

f. Equity priority. 10 points will be given to applications with projects located in a community with a score of 0.75 or above according to the CDC's Social Vulnerability Index. Applicants may verify whether projects qualify for these priority points by viewing the RD web page at https://www.rd.usda.gov/priority-points. For applications supporting two or more facility locations, these priority points will only be given if 50 percent or more of the requested award funds will support these communities identified for priority points through the CDC's Social Vulnerability Index. Maximum 10 points will be given.

(2) Track Two, Impact applicants will receive a score based on the criteria below (maximum score 100 points):

a. Distressed Communities/Communities below the poverty line threshold priority. 10 points will be given for facilities or projects targeting distressed communities according to the EIG index or communities below the poverty line. For applications supporting two or more facility locations, these priority points will only be given if 50 percent or more of the requested award funds will support distressed communities or those communities below the poverty line. EIG's Distressed Community Map can be found here: https://ruraldevelopment.maps.arcgis.com/apps/webappviewer/index.html?id=06a26a91d074426d944d22715a90311e. Maximum 10 points will be given.

b. Income priority. If the median household income of the project's service area is below the higher of the poverty line or—

i. 60 percent of the State nonmetropolitan median household income: 15 points.

ii. 70 percent of the State nonmetropolitan median household income: 12 points.

iii. 80 percent of the State nonmetropolitan median household income: 9 points; or

iv. 90 percent of the State nonmetropolitan median household income: 6 points.

c. Population priority. If the project or facility(ies) will be located in a rural community having a population, according to the most recent decennial census, of—

i. 5,000 or less: 10 points.

ii. 5,001 to 10,000: 6 points; or

iii. 10,001 to 15,000: 3 points.

d. Need, Methodology, and Innovation (maximum 25 points). The Agency will utilize a panel of internal and/or external qualified reviewers to assess need, methodology, and innovation along the following factors:

i. The extent to which the application clearly describes the purpose of the proposed project, the local/regional health care environment and how the need was identified, expected outcomes, focus area(s) and the aim(s) the project would support.

ii. The extent to which the applicant describes an innovative approach to address the need, goals, and objectives and the appropriateness of the proposed strategy.

iii. The extent to which the applicant's project will provide demonstrable impact to rural community(ies) and the health care community.

Maximum 25 points will be given.

e. Organizational Capacity and Strength of Consortium (maximum 15 points). The Agency will utilize a panel of internal and/or external qualified reviewers to assess organizational capacity and strength of consortium along the following factors:

i. Clarity of the roles and responsibilities for each consortium member and the extent to which the network members demonstrate the strength of their mutual commitment in carrying out the planning activities.

ii. The extent to which the application identifies the composition, capacity, and expertise of each consortium member and successfully connects this expertise to the consortium members' (and project director's) proposed responsibilities.

iii. The extent to which the application describes the geographical relationship with the rural service population. Urban-based applicants also must demonstrate how the rural population will be served, and that a high degree of local rural control of the project will be maintained.

iv. Strength of the relationship between the consortium and the community or region it serves. Degree to which the consortium collaborates with appropriate organizations in the community to fulfill the goals of the consortium and the project.

v. Strength and qualifications of the project director, who will dedicate an appropriate amount of their time to the program and be responsible for monitoring the program and ensuring award activities are carried out. This element includes measuring the effectiveness of the application in clearly demonstrating how the project director's role contributes to the success of the network.

Maximum 15 points will be given.

f. Workplan and Proposed Budget (maximum 10 points). The Agency will utilize a panel of internal and/or external qualified reviewers to assess the workplan and proposed budget along the following factors:

i. The feasibility of activities and objectives identified in the work plan including measurable outcomes and the extent to which the expected outcomes this program will accomplish by the end of the period of performance.

ii. The reasonableness of the proposed budget for each year of the period of performance in relation to the objectives, the complexity of the project activities, and the anticipated results.

Maximum 10 points will be given.

g. Evaluation, Impact, and Replicability (maximum 10 points). The Agency will utilize a panel of internal and/or external qualified reviewers to assess evaluation, impact, and replicability along the following factors:

i. The clarity and appropriateness of the proposed goals, objectives, strategy to calculate summary impact measures and/or return on investment, and extent to which project activities would result in achieving the proposed goals outlined in the work plan. The extent to which measures are able to be tracked, to assess whether the program objectives will be met and the extent to which these can be attributed to the program.

ii. The appropriateness and strength of data collection efforts from the lead applicant as well as other members of the consortium, including any plans to solicit or provide technical assistance to support data collection efforts.

iii. The appropriateness and strength of the proposed process for evaluation.

iv. The extent to which the applicant clearly identifies factors and strategies that will lead to viability and sustainability of the network beyond Federal funding, and after the program ends. The clarity and reasonableness of proposed steps to disseminate lessons learned and encourage replication where appropriate.

Maximum 10 points will be given.

h. Equity priority (maximum 5 points) will be given to applications with projects located in a community with a score of 0.75 or above according to the CDC's Social Vulnerability Index. For applications supporting two or more project locations, these priority points will only be given if 50 percent or more of the requested award funds will support these communities identified for priority points through the CDC's Social Vulnerability Index. Applicants may verify whether projects qualify for these priority points through a link on the RD website.

Maximum 5 points will be given.

B. Review and Selection Process

All complete applications will be competed/ranked as specified above. Due to the competitive nature of this program, applications receiving the same score will be competed/ranked based on the Income priority score, and then if necessary, the Population priority score. A complete application contains all information requested by this Notice and is sufficient to allow the determination of eligibility, score, rank, and compete the application for funding, subject to funds available. USDA Rural Development State Offices will work with Track One, Recovery applicants to obtain a complete application for as long as funding remains available.

For Track One, Recovery applicants, determinations of eligibility, scoring, and ranking will occur at the applicable USDA Rural Development State Office where the project is located. Applications will compete for available funding allocated to the applicable USDA Rural Development State Office. If no funding remains available at the applicable State Office, the project will compete for available funding held in the USDA Rural Development National Office reserve.

For Track Two, Impact applicants, eligibility determinations will occur at the applicable USDA Rural Development State Office where the lead applicant is headquartered. If a Track Two applicant is headquartered in the District of Columbia, the applicant must submit its application package to the USDA Rural Development National Office and the application will be processed by the USDA Rural Development Maryland/Delaware State Office. The USDA Rural Development National Office will coordinate the application review, ranking, and selection for Track Two, Impact applications. These applications will be evaluated by an Application Review Panel consisting of qualified health care experts using the criteria described in Section VI Application Review Information of this Notice. Panel members will be selected by the Agency and will be qualified to evaluate the type of work proposed by the applicant. If you are interested in serving as a non-Federal independent panel reviewer and have expertise as it relates to rural health care, please send a resume addressing relevant qualifications and experience to communityfacilities@usda.gov no later than October 1, 2021.

In accordance with 2 CFR 200.206, the Agency will conduct a review of risk posed by applicants. For Track One, Recovery and Track Two, Impact applications that exceed $250,000, the Agency will review and consider any information about the applicant that is in the designated integrity and performance system accessible through SAM, currently the Federal Awardee Performance and Integrity Information System (FAPIIS). Applicants have the option to review information in FAPIIS and comment on any information about itself that a Federal awarding agency previously entered. The Agency will consider any comments by the applicant, in addition to the other information in FAPIIS, in making a judgment about the applicant's integrity, business ethics, and record of performance under Federal awards when completing the review of risk posed by applicants.

Applicants selected for funding will be provided a Letter of Conditions. Upon acceptance of the conditions, the applicant will sign and return to the processing office Forms RD 1942-46, “Letter of Intent to Meet Conditions”, and RD 1940-1, “Request for Obligation of Funds.” The grant is approved on the date an Agency signed copy of Form RD 1940-1, “Request for Obligation of Funds,” is mailed to the applicant.

Prior to the disbursement of grant funds, applicants approved for funding will be required to sign an Agency approved Grant Agreement, meet any pre-disbursement conditions outlined in the Letter of Conditions, and meet the applicable Statutory or Regulatory authority for this action listed in Section I. Funding Opportunity Description.

In the event the application is not approved, the applicant will be notified in writing of the reasons for rejection and provided applicable review and appeal rights in accordance with 7 CFR part 11.

VII. Federal Awarding Administration Information

For Track One, Recovery grant recipients, the USDA Rural Development State Office in the state where the applicant's project is located will administer the selected awards. For Track Two, Impact grant recipients, the USDA Rural Development State Office in the state where the lead applicant is headquartered will administer the selected awards. Agency state office contact information is available at https://www.rd.usda.gov/about-rd/state-offices.

As outlined in the letter of conditions and grant agreement issued by the Agency, grant recipients will be required to provide annual financial statements in accordance with 2 CFR part 200 as adopted by the Agency in 2 CFR part 400. Grant recipients will also provide performance and financial monitoring and reporting information in accordance with 2 CFR part 200, subpart D, “Post Federal Award Requirements.”

VIII. Federal Awarding Agency Contacts

Jamie Davenport: USDA Rural Development, Community Facilities Program. Telephone: (202) 720-0002, email: Jamie.Davenport@usda.gov. Persons with disabilities that require alternative means for communication should contact the U.S. Department of Agriculture (USDA) Target Center at (202) 720-2600 (voice).

IX. Other Information

A. Paperwork Reduction Act

In accordance with the Paperwork Reduction Act of 1995 (44 U.S.C. chapter 35), USDA requested that the Office of Management and Budget (OMB) conduct an emergency review by July 16, 2021 of a new information collection that contains the Information Collection and Recordkeeping requirements contained in this notice.

In addition to the emergency clearance, the regular clearance process is hereby being initiated to provide the public with the opportunity to comment under a full comment period, as the Agency intends to request regular approval from OMB for this information collection. Comments from the public on new, proposed, revised, and continuing collections of information help us assess the impact of our information collection requirements and minimize the public's reporting burden. Comments may be submitted regarding this information collection by the following method:

• Federal eRulemaking Portal: Go to https://www.regulations.gov and, in the “Search” box, type in the Docket No. RHS-21-CF-0009. A link to the Notice will appear. You may submit a comment here by selecting the “Comment” button or you can access the “Docket” tab, select the “Notice,” and go to the “Browse & Comment on Documents” Tab. Here you may view comments that have been submitted as well as submit a comment. To submit a comment, select the “comment” button, complete the required information, and select the “Submit Comment” button at the bottom. Information on using Regulations.gov, including instructions for accessing documents, submitting comments, and viewing the docket after the close of the comment period, is available through the site's “FAQ” link at the bottom. Comments on this information collection must be received by October 12, 2021.

Copies of all forms, regulations, and instructions referenced in this NOFA may be obtained from RHS. Data furnished by the applicants will be used to determine eligibility for program benefits. Furnishing the data is voluntary; however, the failure to provide data could result in program benefits being withheld or denied.

Comments are invited on (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronical, mechanical, or other technological collection techniques or other forms of information technology.

OMB Control Number: 0575-0200.

Title: American Rescue Plan Act Emergency Rural Health Care (ERHC) Grant Program.

Type of Request: New collection.

Abstract: The American Rescue Plan Act Emergency Rural Health Care Grant Program was authorized by the American Rescue Plan Act of 2021 to assist rural hospitals and local communities broaden access to COVID-19 vaccines, health care services, and food assistance through food banks and food distribution facilities, and projects supporting the long-term sustainability of rural health care. As authorized under Section 1002 of the American Rescue Plan Act, funds will be made available to eligible applicants to offer support for rural health care services in the form of immediate relief, longer-term funding to advance ideas and solutions to support long-term sustainability of rural health, and provide expeditious relief to address the current economic conditions arising from the COVID-19 emergency.

Estimate of Burden: Public reporting burden for this collection of information is estimated to average 3.70 hours per response.

Respondents: Public bodies, nonprofits, and Federally recognized Tribes.

Estimated Number of Respondents: 3,392.

Estimated Number of Responses per Respondent: 16.

Estimated Number of Total Annual Responses: 54,300.

Estimated Total Annual Burden and Record Keeping Hours on Respondents: 201,272 hours.

Copies of this information collection can be obtained from MaryPat Daskal, Chief, Branch 1, Rural Development Innovation Center, U.S. Department of Agriculture, 1400 Independence Ave. SW Washington, DC 20250. Phone: 202-720-7853.

All responses to this information collection and recordkeeping notice will be summarized and included in the request for OMB approval. All comments will also become a matter of public record.

B. Civil Rights

Programs referenced in this Notice are subject to applicable Civil Rights Laws. These laws include the Equal Credit Opportunity Act, Title VI of the Civil Rights Act of 1964, Title VIII of the Civil Rights Act of 1968, and Section 504 of the Rehabilitation Act of 1973.

C. Intergovernmental Review

The Emergency Rural Health Care Grant Program is subject to Executive Order 12372, “Intergovernmental Review of Federal Programs.” Submit one copy of the application to the State government single point of contact, if one has been designated, at the same time as application submission to the Agency. If the project is located in more than one state, submit a copy to each applicable state government single point of contact. Go to https://www.whitehouse.gov/wp-content/uploads/2020/04/SPOC-4-13-20.pdf for state office contact information. Applications from Federally recognized Indian tribes are not subject to this requirement.

D. Executive Order 13175, Consultation and Coordination With Indian Tribal Governments

Executive Order 13175 requires federal agencies to consult and coordinate with tribes on a government-to-government basis on policies that have tribal implications. USDA's Office of Tribal Relations and Rural Development hosted a tribal consultation held virtually on May 4, 2021. The virtual meeting consisted of more than 120 participants, 30 of whom identified as Tribal Leaders or their proxies. USDA attendees included the Director of the Office of Tribal Relations, the Acting Administrator of RD's Rural Housing Service, RD's Chief Innovation Officer, and RD's National Native American Coordinator.

Tribal leaders expressed strong interest in broad flexibility of program design, allowing use of funds for construction, and offering grant sizes considerably larger than the existing average Community Facilities grant of $30,000 to support sizable, long-lasting impacts. Leaders highlighted specific needs around behavioral health, workforce development, data availability, food sovereignty, poverty, substance use disorders, and other infrastructure needs such as broadband and water. Leaders expressed concern that the cost-sharing requirements imposed in the statute may be too burdensome and highlighted the need for streamlined applications and limited reporting and federal data collection requirements.

This NOFA takes into consideration Tribal leader comments, particularly with respect to award size and use of funds. Cost-sharing requirements are mandated in the American Rescue Plan Act.

E. Federal Funding Accountability and Transparency Act

All applicants, in accordance with 2 CFR part 25, must have a DUNS/UEI number, which can be obtained at no cost via a toll-free request line at (866) 705-5711 or online at http://fedgov.dnb.com/webform. All recipients of Federal financial assistance are required to report information about first-tier sub-awards and executive total compensation in accordance with 2 CFR part 170.

F. Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

Chadwick Parker,
Acting Administrator, Rural Housing Service.

[FR Doc. 2021-17199 Filed 8-11-21; 8:45 am]

BILLING CODE 3410-XV-P